ENVIRONMENTAL PROTECTION AGENCY

[EPA-HQ-OPPT-2003-0004; FRL-8071-7]

Access to Confidential Business Information by Eagle Technologies, Incorporated

AGENCY: Environmental Protection Agency (EPA).

ACTION: Notice.

SUMMARY: EPA has authorized its contractor Eagle Technologies, Incorporated of Lanham, MD access to information which has been submitted to EPA under all sections of the Toxic Substances Control Act (TSCA). Some of the information may be claimed or determined to be Confidential Business Information (CBI).

DATES: Access to the confidential data will occur no sooner than June 16, 2006.

FOR FURTHER INFORMATION CONTACT: Colby Litner, Regulatory Coordinator, Environmental Assistance Division (7408M), Office of Pollution Prevention and Toxics, Environmental Protection Agency, 1200 Pennsylvania Ave., NW., Washington, DC 20460; telephone number: (202) 554-1404; e-mail address: TSCA-Hotline@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number EPA-HQ-OPPT-2003-0004. Publicly available docket materials are available electronically at http://www.regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr/.

II. What Action is the Agency Taking?

Under contract number EP-W-06-029, Eagle Technologies, Incorporated, of 9301 Annapolis Road, Suite 200, Lanham, MD, will assist EPA by providing security support services, which will include but not be limited to maintaining the Federal Triangle access system; installing locks and keys; changing locks and combinations; issuing identification and building passes; escorts in all secure areas; and other administrative support functions.

In accordance with 40 CFR 2.306(j), EPA has determined that under contract number EP-W-06-029, Eagle Technologies, Incorporated will require access to CBI submitted to EPA under all sections of TSCA, to perform successfully the duties specified under the contract.

Eagle Technologies, Incorporated personnel will be given access to information submitted to EPA under all sections of TSCA. Some of the information may be claimed or determined to be CBI.

EPA is issuing this notice to inform all submitters of information under all sections of TSCA, that the Agency may provide Eagle Technologies, Incorporated access to these CBI materials on a need-to-now basis only. All access to TSCA CBI under this contract will take place at EPA Headquarters.

Eagle Technologies, Incorporated personnel will be required to adhere to all provisions of EPA's TSCA Confidential Business Information Security Manual.

Clearance for access to TSCA CBI under contract number EP-W-06-029 may continue until March 31, 2011.

Eagle Technologies, Incorporated personnel will be required to sign nondisclosure agreements and will be briefed on appropriate security procedures before they are permitted access to TSCA CBI.

List of Subjects

Environmental protection, Confidential business information.

Dated: June 1, 2006.
Vicki A. Simons,
Acting Director, Information Management Division, Office of Pollution Prevention and Toxics.

[FR Doc. E6-9008 Filed 6-8-06; 8:45 am]

BILLING CODE 6560-50-S